DEPARTMENT OF COMMERCE

International Trade Administration

[A-570-506]

Certain Porcelain-On-Steel Cookware from the People's Republic of China: Initiation of New Shipper Antidumping Duty Review

AGENCY: Import Administration, International Trade Administration, Department of Commerce.

EFFECTIVE DATE: September 16, 2004.

FOR FURTHER INFORMATION CONTACT: Anya Naschak at (202) 482-6375 or Benjamin Kong at (202) 482-7907; Office of China/NME Antidumping Duty Enforcement Group, Import Administration, International Trade Administration, U.S. Department of Commerce, 14th Street and Constitution Avenue, N.W., Washington, D.C. 20230.

SUPPLEMENTARY INFORMATION:

Background

The Department received a timely request from Shanghai Watex Metal Products Co., Ltd. (“Watex”) in accordance with 19 CFR 351.214(c), for a new shipper review of the antidumping duty order on porcelain on steel cookware (“POS”) from the People's Republic of China (“PRC”), which has a December annual anniversary month and a June semiannual anniversary month. See Antidumping Duty Order; Porcelain-on-Steel Cooking Ware from the People's Republic of China, 51 FR 43414 (December 2, 1986). In its request, Watex identified itself as both the producer and exporter of POS. As required by 19 CFR 351.214(b)(2)(i) and (iii)(A), Watex certified that it did not export POS to the United States during the period of investigation (“POI”), and that it has never been affiliated with any exporter or producer which exported POS during the POI. Furthermore, Watex has also certified that its export activities are not controlled by the central government of the PRC, satisfying the requirements of 19 CFR 351.214(b)(2)(iii)(B). Pursuant to the Department's regulations at 19 CFR 351.214(b)(2)(iv), Watex submitted documentation establishing the date on which the subject merchandise was first entered for consumption in the United States, the volume of that first shipment and any subsequent shipment, and the date of the first sale to an unaffiliated customer in the United States.

On August 26, 2004, and August 27, 2004, the Department issued pre-initiation supplemental questionnaires to Watex to clarify information submitted in its request for a new shipper review. The Department also requested that Watex clarify whether the merchandise exported by Watex and entered during the period of review was in fact subject merchandise (due to the proprietary nature of this information, it is discussed in greater detail in the Letter from the Department dated August 27, 2004, which is on the record in this review and is on file in the Central Records Unit (“CRU”) located in room B-099 of the Main Commerce Building). In Watex's supplemental questionnaire response, dated August 31, 2004, Watex responded to the Department's request for clarification and provided additional documentation as requested.

The Department conducted U.S. Customs and Border Protection (“CBP”) database queries to determine whether Watex's shipment had entered the United States. In addition, the Department confirmed through research on the internet and through Dunn and Bradstreet reports that Watex and the importer of record appear to be bona fide companies.

Scope

Imports covered by this review are shipments of POS cooking ware, including tea kettles, which do not have self-contained electric heating elements. All of the foregoing are constructed of steel and are enameled or glazed with vitreous glasses. The merchandise is currently classifiable under the Harmonized Tariff Schedule (“HTS”) item 7323.94.00. HTS items numbers are provided for convenience and customs purposes. The written description of the scope remains dispositive.

Initiation of Review

In accordance with section 751(a)(2)(B) of the Act, as amended, and 19 CFR 351.214(d)(1) of the Department's regulations, and based on information on the record, we are initiating a new shipper review for Watex. See Memorandum to the File through James C. Doyle, New Shipper Review Initiation Checklist, dated September 9, 2004. We intend to issue the preliminary results of this review not later than 180 days after the date on which this review was initiated, and the final results of this review within 90 days after the date on which the preliminary results were issued.

Pursuant to 19 CFR 351.214(g)(1)(i)(B) of the Department's regulations, the period of review (“POR”) for a new shipper review initiated in the month immediately following the anniversary month will be the six-month period immediately preceding the semi-annual anniversary month. Therefore, the POR for this new shipper review is:

Antidumping Duty Proceeding | Period to be Reviewed
Exporter/Producer: Shanghai Watex Metal Products Co., Ltd. | 12/01/03 - 05/31/04

It is the Department's practice in cases involving non-market economies to require that a company seeking to establish eligibility for an antidumping duty rate separate from the country-wide rate to provide evidence of de jure and de facto absence of government control over the company's export activities. See e.g., Notice of Preliminary Results of Antidumping Duty New Shipper Review: Honey from the People's Republic of China, 68 FR 33099 (June 3, 2003); Notice of Final Results of Antidumping Duty New Shipper Review: Honey from the People's Republic of China, 68 FR 62053 (October 31, 2004) (unchanged in the final results). Accordingly, we will issue a questionnaire to Watex concerning separate rates. The review will proceed if the responses provide sufficient indication that Watex is not subject to either de jure or de facto government control with respect to their exports of POS. However, if Watex does not demonstrate its eligibility for a separate rate, then it will be deemed not separate from other companies in the PRC that exported during the POI and the new shipper review will be rescinded.

In accordance with section 751(a)(2)(B)(iii) of the Act and 19 CFR 351.214(e), we will instruct CBP to allow, at the option of the importer, the posting, until the completion of the review, of a single entry bond or security in lieu of a cash deposit for certain entries of the merchandise exported by Watex. Specifically, since Watex has identified itself as both the producer and exporter of the subject merchandise for the sale under review, we will instruct CBP to limit the bonding option only to entries of merchandise exported by Watex that were also produced by Watex.

Interested parties that need access to proprietary information in this new shipper review should submit applications for disclosure under administrative protective orders in accordance with 19 CFR 351.305 and 351.306.

This initiation and notice are in accordance with section 751(a)(2)(B) of the Act (19 U.S.C. 1675(a)(2)(B)) and 19 CFR 351.214(d) of the Department's regulations.

Dated: September 9, 2004.
Jeffrey A. May,
Deputy Assistant Secretary for Import Administration.

[FR Doc. E4-2221 Filed 9-15-04; 8:45 am]

BILLING CODE